DEPARTMENT OF TRANSPORTATION

Federal Aviation Administration

14 CFR Part 97

[Docket No. 30808; Amdt. No. 3448]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 26, 2011. The compliance date for each SIAP, associated Takeoff Minimums, and ODP is specified in the amendatory provisions.

The incorporation by reference of certain publications listed in the regulations is approved by the Director of the Federal Register as of October 26, 2011.

ADDRESSES: Availability of matters incorporated by reference in the amendment is as follows:

For examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on October 14, 2011.
Ray Towles,
Deputy Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 17 NOV 2011

Troy, AL, Troy Muni, RADAR-1, Amdt 9

Show Low, AZ, Show Low Rgnl, RNAV (GPS) RWY 24, Amdt 2A

Salinas, CA, Salinas Muni, Takeoff Minimums and Obstacle DP, Amdt 4

Atlanta, GA, Hartsfield-Jackson Atlanta Intl, Takeoff Minimums and Obstacle DP, Amdt 4A

Newton, KS, Newton-City-County, Takeoff Minimums and Obstacle DP, Orig

Fayetteville, NC, Fayetteville Rgnl/Grannis Field, ILS OR LOC/DME RWY 4, Amdt 16

Teterboro, NJ, Teterboro, RNAV (GPS)-C, Orig, CANCELLED

Teterboro, NJ, Teterboro, RNAV (GPS) X RWY 6,Orig

Watertown, NY, Watertown Intl, Takeoff Minimums and Obstacle DP, Amdt 1

Fairview, OK, Fairview Muni, Takeoff Minimums and Obstacle DP, Amdt 3

Guymon, OK, Guymon Muni, GPS RWY 36, Orig-A, CANCELLED

Guymon, OK, Guymon Muni, RNAV (GPS) RWY 18, Amdt 1

Guymon, OK, Guymon Muni, RNAV (GPS) RWY 36, Orig

Guymon, OK, Guymon Muni, Takeoff Minimums and Obstacle DP, Amdt 1

Norman, OK, University of Oklahoma Westheimer, ILS OR LOC RWY 17, Amdt 1A

Jasper, TN, Marion County-Brown Field, Takeoff Minimums and Obstacle DP, Amdt 2

Portland, TN, Portland Muni, GPS RWY 19, Orig, CANCELLED

Portland, TN, Portland Muni, RNAV (GPS) RWY 1, Orig

Portland, TN, Portland Muni, RNAV (GPS) RWY 19, Orig

Pulaski, TN, Abernathy Field, RNAV (GPS) RWY 16, Amdt 2

Pulaski, TN, Abernathy Field, RNAV (GPS) RWY 34, Amdt 2

Pulaski, TN, Abernathy Field, Takeoff Minimums and Obstacle DP, Amdt 4

Rogersville, TN, Hawkins County, Takeoff Minimums and Obstacle DP, Amdt 2

Amarillo, TX, Tradewind, Takeoff Minimums and Obstacle DP, Amdt 3

Lancaster, TX, Lancaster Rgnl, NDB RWY 31, Amdt 3, CANCELLED

Yakima, WA, Yakima Air Terminal/Mcallister Field, RNAV (RNP) Y RWY 27, Orig-A

Effective 15 DEC 2011

Savoonga, AK, Savoonga, RNAV (GPS) RWY 5, Amdt 1

Savoonga, AK, Savoonga, RNAV (GPS) RWY 23, Amdt 1

Shungnak, AK, Shungnak, RNAV (GPS) RWY 9, Amdt 2

Shungnak, AK, Shungnak, RNAV (GPS) RWY 27, Amdt 2

Hamilton, AL, Marion County-Rankin Fite, Takeoff Minimums and Obstacle DP, Amdt 1

Prattville, AL, Prattville-Grouby Field, Takeoff Minimums and Obstacle DP, Amdt 1

Reform, AL, North Pickens, Takeoff Minimums and Obstacle DP, Amdt 1

McGehee, AR, McGehee Muni, Takeoff Minimums and Obstacle DP, Orig

Mesa, AZ, Falcon Fld, RNAV (GPS) RWY 4L, Amdt 1

Mesa, AZ, Falcon Fld, RNAV (GPS) RWY 4R, Amdt 1

Atwater, CA, Castle, ILS OR LOC/DME RWY 31, Amdt 2C

Atwater, CA, Castle, RNAV (GPS) RWY 13, Orig-B

Atwater, CA, Castle, RNAV (GPS) RWY 31, Orig-B

Atwater, CA, Castle, Takeoff Minimums and Obstacle DP, Amdt 1A

Atwater, CA, Castle, VOR/DME RWY 31, Amdt 1B

Davis/Woodland/Winters, CA, Yolo County, RNAV (GPS) RWY 34, Amdt 2

Denver, CO, Rocky Mountain Metropolitan, ILS OR LOC Y RWY 29R, Amdt 14

Denver, CO, Rocky Mountain Metropolitan, ILS OR LOC Z RWY 29R, Orig

Denver, CO, Rocky Mountain Metropolitan, RNAV (GPS) RWY 29L, Amdt 1

Denver, CO, Rocky Mountain Metropolitan, RNAV (GPS) RWY 29R, Amdt 1

Miami, FL, Opa-Locka Executive, GPS RWY 9L, Orig B, CANCELLED

Miami, FL, Opa-Locka Executive, GPS RWY 27R, Orig B, CANCELLED

Miami, FL, Opa-Locka Executive, ILS OR LOC RWY 9L, Amdt 5

Miami, FL, Opa-Locka Executive, ILS OR LOC RWY 12, Amdt 2

Miami, FL, Opa-Locka Executive, ILS OR LOC RWY 27R, Amdt 1

Miami, FL, Opa-Locka Executive, RNAV (GPS) RWY 9L, Orig

Miami, FL, Opa-Locka Executive, RNAV (GPS) RWY 12, Orig

Miami, FL, Opa-Locka Executive, RNAV (GPS) RWY 27R, Orig

Miami, FL, Opa-Locka Executive, Takeoff Minimums and Obstacle DP, Amdt 9

Sebring, FL, Sebring Rgnl, RNAV (GPS) RWY 14, Orig

Sebring, FL, Sebring Rgnl, RNAV (GPS) RWY 32, Orig

Waynesboro, GA, Burke County, NDB RWY 8, Amdt 2B, CANCELLED

Cedar Rapids, IA, The Eastern Iowa, ILS OR LOC RWY 27. Amdt 6B

Boise, ID, Boise Air Terminal/Gowen Fld, VOR/DME OR TACAN RWY 10L, Amdt 2

Boise, ID, Boise Air Terminal/Gowen Fld, VOR/DME RWY 10R, Amdt 1

Abilene, KS, Abilene Muni, Takeoff Minimums and Obstacle DP, Orig

Marysville, KS, Marysville, NDB RWY 34, Amdt 5, CANCELLED

Moundridge, KS, Moundridge Muni, Takeoff Minimums and Obstacle DP, Orig

Paola, KS, Miami County, Takeoff Minimums and Obstacle DP, Orig

Indianola, MS, Indianola Muni, NDB RWY 18, Amdt 5A, CANCELLED

Indianola, MS, Indianola Muni, NDB RWY 36, Amdt 5A, CANCELLED

Lewistown, MT, Lewistown Muni, RNAV (GPS) RWY 8, Amdt 1A

Rochester, NY, Greater Rochester Intl, Takeoff Minimums and Obstacle DP, Amdt 7

Aurora, OR, Aurora State, Takeoff Minimums and Obstacle DP, Amdt 3

North Bend, OR, Southwest Oregon Rgnl, NDB RWY 4, Amdt 5A

North Bend, OR, Southwest Oregon Rgnl, RNAV (GPS) Y RWY 4, Orig-A

North Bend, OR, Southwest Oregon Rgnl, VOR-A, Amdt 5A

North Bend, OR, Southwest Oregon Rgnl, VOR/DME-B, Amdt 4A

Scappoose, OR, Scappoose Industrial Airpark, LOC/DME RWY 15, Amdt 2

Bay City, TX, Bay City Muni, Takeoff Minimums and Obstacle DP, Orig

Denton, TX, Denton Muni, ILS OR LOC RWY 18, Amdt 9

Devine, TX, Devine Muni, Takeoff Minimums and Obstacle DP, Amdt 1

Kenedy, TX, Karnes County, RNAV (GPS) RWY 16, Orig

Kenedy, TX, Karnes County, RNAV (GPS) RWY 34, Orig

Kenedy, TX, Karnes County, VOR/DME-A, Amdt 7

Paducah, TX, Dan E. Richards Muni, Takeoff Minimums and Obstacle DP, Orig

Williamsburg, VA, Williamsburg-Jamestown, Takeoff Minimums and Obstacle DP, Amdt 2

Walla Walla, WA, Walla Walla Rgnl, NDB RWY 20, Amdt 6

Milwaukee, WI, General Mitchell Intl, ILS OR LOC RWY 19R, Amdt 12

Phillips, WI, Price County, Takeoff Minimums and Obstacle DP, Amdt 1

Fairmont, WV, Fairmont Muni-Frankman Field, VOR/DME-A, Amdt 1

[FR Doc. 2011-27371 Filed 10-25-11; 8:45 am]

BILLING CODE 4910-13-P